DEPARTMENT OF VETERANS AFFAIRS

[OMB Control No. 2900-0618]

Agency Information Collection Activity: Application by Insured Terminally Ill Person for Accelerated Benefit; Withdrawn

AGENCY: Veterans Benefits Administration, Department of Veterans Affairs.

ACTION: Notice; withdrawal.

SUMMARY: On November 5, 2021 the Veterans Benefits Administration (VA), published a notice in the Federal Register announcing an opportunity for public comment on the proposed collection Application by Insured Terminally Ill Person for Accelerated Benefit Form SGLI 8284. This notice was published in error; therefore, this document corrects that error by withdrawing this FR notice, document number 2021-24223.

DATES: As of November 15, 2021, the FR notice published at 86 FR 61400 on Friday, November 5, 2021, is withdrawn.

FOR FURTHER INFORMATION CONTACT: Maribel Aponte, Office of Enterprise and Integration, Data Governance Analytics (008), 1717 H Street NW, Washington, DC 20006, (202) 266-4688 or email maribel.aponte@va.gov.

SUPPLEMENTARY INFORMATION: FR Doc. 2021-24223, published on November 5, 2021 (86 FR 61400), is withdrawn by this notice.

By direction of the Secretary.
Maribel Aponte,
VA PRA Clearance Officer,Office of Enterprise and Integration/Data Governance Analytics,Department of Veterans Affairs.

[FR Doc. 2021-25258 Filed 11-18-21; 8:45 am]

BILLING CODE 8320-01-P